DEPARTMENT OF THE INTERIOR

Bureau of Land Management

[LLMT924000-L54200000-FR0000-LVDIE09E0470; SDM 99176]

Notice of Application for Disclaimer of Interest, Brookings County, SD

AGENCY: Bureau of Land Management, Interior.

ACTION: Notice.

SUMMARY: An application has been filed with the Bureau of Land Management (BLM) by Northern States Power Company (NSP), d/b/a/Xcel Energy, for a Recordable Disclaimer of Interest from the United States for an easement in Brookings County, South Dakota. This notice is intended to inform the public of the pending application.

DATES: Comment period is open for 90 days from publication of this notice. Only written comments will be accepted. Refer to serial No. SDM 99176.

ADDRESSES: Address all written comments to Cindy Staszak, Chief, Branch of Land Resources, BLM Montana State Office, 5001 Southgate Drive, Billings, Montana 59101-4669.

FOR FURTHER INFORMATION CONTACT: Tami Lorenz, BLM Montana State Office, 5001 Southgate Drive, Billings, Montana 59101-4669; 406-896-5053.

SUPPLEMENTARY INFORMATION: Pursuant to Section 315 of the Federal Land Policy and Management Act of 1976, as amended (43 U.S.C. 1745), and the regulations contained in 43 CFR subpart 1864, a Recordable Disclaimer of Interest, if issued, will confirm that the United States has no valid interest in the easement. The NSP has filed condemnation proceedings for easement rights to construct, operate, maintain, use, rebuild, or remove an electric transmission line through, over, under and across the subject land. A Recordable Disclaimer of Interest will not be issued until the NSP secures title to the easement through condemnation. The easement is described as follows:

Fifth Principal Meridian, South Dakota

T. 110 N., R. 47 W.,

sec. 3, south 75.5 feet of lot 6.

The area described contains approximately 1.7 acres in Brookings County.

A review of the General Land Office plat and original patent documents indicate that the surface and subsurface interests in the above-described property were transferred out of Federal ownership by land patents, with no reservations to the United States. The BLM South Dakota Field Office reported there have been no on-the-ground changes that reflect any remaining Federal interest.

All persons who wish to present comments, suggestions, or objections in connection with the proposed disclaimer may do so by writing to the undersigned authorized officer at the above address. Before including your address, phone number, e-mail address, or other personal identifying information in your comment, you should be aware that your entire comment—including your personal identifying information—may be made publicly available at any time. While you can ask us in your comment to withhold your personal identifying information from public review, we cannot guarantee that we will be able to do so.

If no valid objection is received, a Recordable Disclaimer of Interest may be approved stating that the United States does not have a valid interest in the land.

Cindy Staszak,
Chief, Branch of Land Resources.

[FR Doc. E9-31242 Filed 1-4-10; 8:45 am]

BILLING CODE 4310-$$-P